DEPARTMENT OF TRANSPORTATION

Federal Aviation Administration

Twenty-Second Meeting: RTCA Special Committee (225) Rechargeable Lithium Batter and Battery Systems

AGENCY: Federal Aviation Administration (FAA), U.S. Department of Transportation (DOT).

ACTION: Notice of Twenty-Second RTCA Special Committee 225 meeting.

SUMMARY: The FAA is issuing this notice to advise the public of the Twenty-Second RTCA Special Committee 225 meeting.

DATES: The meeting will be held April 12-14, 2016 from 9:00 a.m.-5:00 p.m.

ADDRESSES: The meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 225. The agenda will include the following:

Tuesday, April 12, 2016

1. Introductions and administrative items (including DFO & RTCA Statement) (5 min)

2. Review agenda (5 min)

3. Review and approve summary from the last Plenary (5 min)

4. Consider using DO-235 Thermal Runaway definition (30 min)

5. Discuss need for matrix that correlates DO-347 to DO-311A (30 min)

6. Additional business

7. Adjourn to working group

a. Tasks to accomplish

i. Continue updating draft DO-311A

8. Review Plenary action items (5 min)

Wednesday, April 13, 2016

1. Review agenda, other actions (5 min)

2. Adjourn to working group

3. Review Plenary action items (5 min)

Thursday, April 14, 2016

1. Review agenda, other actions (5 min)

2. Establish Agenda for next Plenary (5 min)

3. Adjourn to working group

4. Working Group Report (5 min)

5. Review Plenary action items (5 min)

6. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on March 18, 2016.
Latasha Robinson,
Management & Program Analyst, NextGen, Enterprise Support Services Division, Federal Aviation Administration.

[FR Doc. 2016-06691 Filed 3-23-16; 8:45 am]

BILLING CODE 4910-13-P